DEPARTMENT OF THE INTERIOR

Bureau of Land Management

[NV-030-1610-DH]

Notice of Intent To Prepare an Amendment to the Lahontan Resource Management Plan for Resource Management of Withdrawn Lands at Naval Air Station Fallon, Nevada

AGENCY: Department of the Interior, Bureau of Land Management, Carson City Field Office in partnership with the Department of Defense, U.S. Naval Air Station Fallon, Nevada.

ACTION: Notice of Intent. The Bureau of Land Management (BLM) is proposing to amend the Lahontan Resource Management Plan (RMP) based on specific direction within Public Law 106-65, section 3014 (Military Lands Withdrawal Act of 1999). In addition, the BLM's amended RMP will be prepared with the Naval Air Station Fallon (Navy) to comply with Department of Defense requirements for an Integrated Natural Resource Management Plan in accordance with the Sikes Act Amendment Act (1997), Public Law 105-85.

SUMMARY: BLM and Navy have determined that the resource management plan process and environmental assessment (EA) is the appropriate means to serve as the analysis and the basis for decisions on lands identified in the Military Lands Withdrawal Act of 1999 for public land management.

The following resource-related issues have been identified: (1) Off Highway Vehicle use; (2) public access (hunting, ranching, mining claims, etc.); (3) livestock grazing; (4) sage grouse habitat preservation; (5) Pony Express Trail protection; (6) wildfire prevention and suppression. The BLM and Navy are soliciting comments regarding issues and concerns the public may have.

EFFECTIVE DATES: Two public scoping meetings will be held in June 2000 to allow the public an opportunity to identify issues and concerns to be addressed in the RMP Amendment. Representatives from BLM and Navy will be available to answer questions about the Military Lands Withdrawal Act of 1999 and the RMP Amendment process. Comments will be accepted until June 30, 2000.

The scheduled public meetings are:

Fallon, NV (7:00-9:00 p.m.)—June 13, 2000, Fallon Convention Center, 100 Campus Way, Fallon, NV.

Reno, NV (7-9 p.m.)—June 15, 2000, BLM Nevada State Office, 1340 Financial Blvd., Reno, NV.

The proposed plan amendment schedule is as follows:

Begin Public Scoping: May 25, 2000.

Public Scoping Meetings: June 13 and 15, 2000.

Release Proposed Plan Amendment, EA and FONSI for Public Review, Governor's Consistency Review: November 30, 2000.

Issue Plan Amendment and Decision Record: May 1, 2000.

FOR FURTHER INFORMATION CONTACT: Scoping comments may be sent to: Field Manager, Bureau of Land Management, 5665 Morgan Mill Road, Carson City, NV 89701. ATTN: Navy Project Manager.

For additional information, write to the above address or call Terri Knutson (BLM Project Manager) at (775) 885-6156 or email tknutson@nv.blm.gov.

SUPPLEMENTARY INFORMATION: In 1998 the Navy completed an environmental impact statement (EIS) to analyze the proposed withdrawal of public lands to provide safety and training buffers around three established training ranges in Churchill County, Nevada. The Findings and Recommendations resulting from the EIS were transmitted to Congress and in October 1999 the Military Lands Withdrawal Act of 1999, Public Law 106-65 was passed and signed by the President. The Act specifies several actions to be taken by the BLM and Navy prior to October 2001, including development of a plan for management of each area withdrawn for protection of the resources and values. Federal, state, and local agencies, Tribal entities, and other individuals or organizations who may be interested in or affected by the decisions to be made in this plan amendment are invited to participate in the scoping process and may request, or be requested by the BLM and Navy, to participate as a cooperating agency.

Dated: May 15, 2000.
John O. Singlaub,
Manager, Carson City Field Office.

[FR Doc. 00-13164 Filed 5-25-00; 8:45 am]

BILLING CODE 4310-HC-U